NUCLEAR REGULATORY COMMISSION

[Docket No. 52-011; NRC-2008-0252]

Southern Nuclear Operating Company; Notice of Availability of Environmental Assessment and Finding of No Significant Impact for License Amendment to Early Site Permit Issued to Southern Nuclear Operating Company et al., for Vogtle Electric Generating Plant ESP Site Located in Burke County, GA

AGENCY: Nuclear Regulatory Commission.

ACTION: Notice of availability.

FOR FURTHER INFORMATION CONTACT: Chandu Patel, Project Manager, AP1000 Branch 1, Division of New Reactors Licensing, Office of New Reactors, U.S. Nuclear Regulatory Commission, Washington, DC 20555-0001. Telephone: (301) 415-3025; fax number: (301) 415-6350; e-mail: Chandu.Patel@nrc.gov.

SUPPLEMENTARY INFORMATION:

I. Introduction

The Nuclear Regulatory Commission (NRC) is considering issuance of an amendment to Early Site Permit (ESP) No. ESP-004, issued to Southern Nuclear Operating Company (SNC) and several co-applicants (Georgia Power Company, Oglethorpe Power Corporation, Municipal Electric Authority of Georgia, and the City of Dalton, Georgia), for the Vogtle Electric Generating Plant (VEGP) ESP site located in Burke County, Georgia. The proposed amendment would modify the Vogtle Electric Generating Plant ESP site safety analysis report (SSAR) to allow the use of Category 1 and 2 backfill obtained from onsite borrow areas not specifically identified in the VEGP ESP SSAR.

NRC has prepared an Environmental Assessment (EA) in support of this amendment in accordance with the requirements of 10 CFR Part 51. Based on the EA, the NRC has concluded that a Finding of No Significant Impact (FONSI) is appropriate. The amendment will be issued following the publication of this Notice.

II. EA Summary

The purpose of the proposed amendment is to authorize a change to the early site permit issued to SNC for the Vogtle Electric Generating Plant ESP site located in Burke County, Georgia. Specifically, the proposed amendment would modify the Vogtle Electric Generating Plant ESP site safety analysis report (SSAR) to allow the use of Category 1 and 2 backfill obtained from onsite borrow areas that were not specifically identified in the VEGP ESP SSAR. On April 20, 2010, as supplemented on April 23 and 28, and May 5, 10, and 13, 2010, SNC requested that NRC approve the proposed amendment. By letter dated May 13, 2010, the applicant requested that the NRC consider issuing a limited scope approval (LSA) of a subset of the requested onsite borrow locations pending the NRC determination on the remainder of the borrow sources identified in the license amendment request (LAR). The LSA request proposed NRC approval of SNC's use of borrow material from certain onsite locations where impacts from site preparation activities were already anticipated and previously evaluated in NUREG-1872, “Final Environmental Impact Statement for an Early Site Permit (ESP) at the Vogtle Electric Generating Plant Site.” SNC's request for the proposed change was previously noticed in the Federal Register on May 6, 2010 (75 FR 24993), with a notice of an opportunity to request a hearing.

The staff has prepared the EA in support of its review of the proposed license amendment. Because the LSA requests separate approval of a subset of the locations described by the LAR, this EA separately evaluates the activities associated with acquiring additional backfill from those onsite borrow sources and summarizes the radiological and non-radiological environmental impacts that may result from granting the LSA portion of the amendment request. The staff has determined that granting the proposed amendment would not result in significant non-radiological impacts to land use, surface and groundwater resources, terrestrial and aquatic resources, threatened and endangered species, socioeconomic factors and environmental justice, cultural and historical resources, air quality, non-radiological human health and nonradioactive waste. In addition, the staff has determined that there are no significant radiological health impacts associated with the proposed action.

III. Finding of No Significant Impact

On the basis of the EA, the NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. The NRC's Agencywide Document Access and Management System (ADAMS), which provides text and image files of NRC's public documents, may be accessed from this site. The ADAMS accession numbers for the documents related to this notice are: The application dated April 20, 2010, as supplemented by letters dated April 23, 28, May 5, 10, and 13, 2010 is available at ML101120089, ML101160531, ML101230337, ML101270283, ML101330141, and ML101340649 respectively. The Environmental Assessment and Finding of No Significant Impact evaluation is available at ML101380114. Persons who do not have access to ADAMS or who encounter problems in accessing the documents located in ADAMS should contact the NRC Public Document Room (PDR) Reference staff by telephone at 1-800-397-4209, 301-415-4737 or by e-mail to pdr.resource@nrc.gov.

These documents may also be viewed electronically on the public computers located at the NRC's Public Document Room (PDR), O 1 F21, One White Flint North, 11555 Rockville Pike Rockville, MD 20852. The PDR reproduction contractor will copy documents for a fee.

Dated at Rockville, Maryland this 18th day of May, 2010.
For the Nuclear Regulatory Commission.
Jeffrey Cruz,
Branch Chief, AP1000 Branch1, Division of New Reactors Licensing, Office of New Reactors.

[FR Doc. 2010-12365 Filed 5-20-10; 8:45 am]

BILLING CODE 7590-01-P